DEPARTMENT OF JUSTICE

Notice of Lodging of Proposed Consent Decree Under The Comprehensive Environmental Response, Compensation and Liability Act

On April 18, 2019, the Department of Justice lodged a proposed consent decree with the United States District Court for the Eastern District of North Carolina in the lawsuit entitled United States v. Honeywell International, Inc., and International Paper Co., Civil Action No. 7:19-cv-00073-D.

The United States filed this lawsuit under the Comprehensive Environmental Response, Compensation and Liability Act (CERCLA). The United States' complaint names Honeywell International, Inc., and International Paper Co. as defendants. The complaint requests recovery of costs that the United States incurred responding to releases of hazardous substances at the LCP-Holtrachem Site in Riegelwood, Columbus County, North Carolina. The complaint also seeks injunctive relief. The two defendants agree under the decree to perform the remedial action that EPA selected for the site. The defendants will also reimburse the United States for all past and future response costs. In return, the United States agrees not to sue the defendants under sections 106 and 107 of CERCLA or under section 7003 of the Resource Conservation and Recovery Act.

The publication of this notice opens a period for public comment on the consent decree. Comments should be addressed to the Assistant Attorney General, Environment and Natural Resources Division, and should refer to United States v. Honeywell International, Inc., et al., D.J. Ref. No. 90-11-3-11987. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

Under section 7003(d) of RCRA, a commenter may request an opportunity for a public meeting in the affected area.

During the public comment period, the consent decree may be examined and downloaded at this Justice Department website: https://www.justice.gov/enrd/consent-decrees. We will provide a paper copy of the consent decree upon written request and payment of reproduction costs. Please mail your request and payment to: Consent Decree Library, U.S. DOJ-ENRD, P.O. Box 7611, Washington, DC 20044-7611.

Please enclose a check or money order for $105.25 (25 cents per page reproduction cost) payable to the United States Treasury. For a paper copy without the exhibits and signature pages, the cost is $11.75.

Henry Friedman,
Assistant Section Chief, Environmental Enforcement Section, Environment and Natural Resources Division.

[FR Doc. 2019-08424 Filed 4-25-19; 8:45 am]

BILLING CODE 4410-15-P